DEPARTMENT OF HEALTH AND HUMAN SERVICES

Centers for Disease Control and Prevention

[60Day-22-22ES; Docket No. CDC-2022-0058]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed generic information collection project titled Assessing Respirator Perceptions, Experiences, and Maintenance. NIOSH proposes using surveys, interviews, focus groups, and physiological monitoring to assess current perceptions in respirator use as well as gaps in respirator use, maintenance, and programs.

DATES: CDC must receive written comments on or before July 5, 2022.

ADDRESSES: You may submit comments, identified by Docket No. CDC-2022-0058 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Respirator Perceptions, Experiences, and Maintenance—New—National Institute for Occupational Safety and Health (NIOSH), Centers for Disease Control and Prevention (CDC).

Background and Brief Description

The Centers for Disease Control and Prevention (CDC), National Institute for Occupational Safety and Health (NIOSH), is requesting approval of a new Generic information collection for a period of three years under the project titled “Assessing Respirator Perceptions, Experiences, and Maintenance.”

The National Personal Protective Technology Laboratory (NPPTL) is a division of NIOSH. NPPTL was established in 2001, at the request of Congress, with the mission of preventing disease, injury, and death for the millions of working men and women relying on personal protective technology (PPT). As the nation's respirator approver for all workplaces (42 CFR part 84), the development of NPPTL filled a need for improved personal protective equipment (PPE) and focused research into PPT. To this end, NPPTL conducts respiratory protection research to examine exposures to inhalation hazards, dermal hazards, and any other hazardous environmental threats within an occupational setting.

Federal regulations exist regarding the use of respirators in the workplace. The Occupational Safety and Health Administration (OSHA) requires employers whose hazard management includes the use of respirators to have a respiratory protection program, which has specified components. Thus, the information collected from human subjects about their use of respirators is generally consistent across NPPTL studies with only the use conditions changing (e.g., respirator type or management implementation practices related to cleaning/decontamination, fit testing, and training). NPPTL requests a generic information collection package for information collected from individual workers and managers related to the perceptions, maintenance, and evaluation of respirator use on the job.

Different types of data collection including surveys, focus groups, interviews, and physiological monitoring will be used to: (1) Assess workers' health and safety knowledge, attitudes, skills, and other personal attributes as they relate to their respiratory protection use and maintenance, (2) identify and overcome barriers that workers face while using respiratory protection to prevent exposure to contaminants and other hazards, (3) understand organizations' maintenance of respiratory protection programs (RPP), directives, and guidelines that support worker best practices, and (4) determine appropriate training, interventions, and programs that support activities around respirator use and maintenance. Data collection may focus on respirator types ubiquitous to the industry being studied, new to the industry being studied, or novel to any industry. These data collection efforts may occur either electronically or in the field.

Respondents are expected to include a variety of employees from occupations such as public safety and emergency response, healthcare, and social assistance occupations who wear or manage respirator use on the job. Expected respondent job roles include industrial hygienists, occupational health professionals, infection control professionals, physicians, nurse practitioners, nurses, infection preventionists, fire department chiefs, battalion chiefs, sheriffs, shift supervisors, firefighters, police officers, and paramedics.

CDC request OMB approval for an estimated 13,071 burden hours. There is no cost to respondents other than their time to participate.

Estimated Annualized Burden Hours
Type of respondents | Form name | Number of respondents | Number of responses per respondent | Average burden per response (in hours) | Total burden (in hours)
Industry employees who wear respirators or oversee respirator use | Informed consent | 10,150 | 1 | 5/60 | 846
Industry employees who wear respirators or oversee respirator use | Perceptions-based survey instrument | 3,450 | 2 | 15/60 | 1,725
Industry employees who wear respirators or oversee respirator use | Knowledge-based survey instrument | 2,000 | 1 | 30/60 | 1,000
Industry employees who wear respirators or oversee respirator use | Interview/Focus group | 250 | 2 | 1 | 500
Industry employees who wear a respirator as a part of their job | Physiological Monitoring: Heart rate, blood pressure, blood oxygen saturation, breathing rate | 1,000 | 1 | 9 | 9,000
Total |  |  |  |  | 13,071

Jeffrey M. Zirger,
Lead, Information Collection Review Office, Office of Scientific Integrity, Office of Science, Centers for Disease Control and Prevention.

[FR Doc. 2022-09785 Filed 5-5-22; 8:45 am]

BILLING CODE 4163-18-P